DEPARTMENT OF ENERGY

Federal Energy Regulatory Commission

[Project No. 2392-041]

Ampersand Gilman Hydro, LP; Notice of Application Ready for Environmental Analysis and Soliciting Comments, Recommendations, Terms and Conditions, and Prescriptions

Take notice that the following hydroelectric application has been filed with the Commission and is available for public inspection.

a. Type of Application: New Major License.

b. Project No.: 2392-041.

c. Date filed: March 29, 2022.

d. Applicant: Ampersand Gilman Hydro, LP.

e. Name of Project: Gilman Hydroelectric Project.

f. Location: The project is located on the Connecticut River and straddles the Village of Gilman, within the Town of Lunenburg, Essex County, Vermont, and the Town of Dalton, Coos County, New Hampshire. The project does not occupy any Federal or Tribal lands.

g. Filed Pursuant to: Federal Power Act 16 U.S.C. 791a-825r.

h. Applicant Contact: Mr. Sayad Moudachirou, Licensing Manager, 717 Atlantic Avenue, Suite 1A, Boston, MA 02111; phone: (617) 933-7206 or email: sayad@ampersandenergy.com.

i. FERC Contact: Ousmane Sidibe, (202) 502-6245 or ousmane.sidibe@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Gilman Hydroelectric Project (P-2392-041).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The Gilman Hydroelectric Project consists of: (1) a 324.5-foot-wide concrete dam with a crest elevation of 826.8 feet above mean sea level (msl) spanning the river's width with a 5-foot-high, 108-foot-long rubber bladder and a 6.5-foot-high, 109-foot-long rubber bladder surmounted on two overflow spillways measuring 112.9 feet and 113 feet in width and an 18-foot-high, 27-foot-wide hydraulically operated crestgate; (2) a downstream fish passage system; (3) a 130-acre impoundment at a normal maximum surface elevation of 833.3 feet msl; (4) a steel- and timber-framed powerhouse with an integral water intake draft tube containing four generating turbine units with a total installed capacity of 4.95 megawatts located at the Vermont side of the dam; (5) a 242-foot-long, 23.75-foot-wide trash rack with approximately 2-inch spacing; (6) a 200-foot-long transmission line connecting the 34.5 kilovolt-ampere transformer to National Grid's switchyard; and (7) appurtenant facilities.

Ampersand Gilman Hydro, LP proposes to continue to operate the project in a run-of-river mode with no storage or flood control capacity. In accordance with Condition A of the Vermont Department of Environmental Conservation's water quality certification issued for the project, the project adheres to the following downstream minimum flow release requirements: (1) from June 1 through October 15, when river flows are less than 1,000 cubic feet per second (cfs), pass a minimum flow of 210 cfs over the crestgate; (2) provide a minimum flow of 757 cfs during operational issues or refilling of the impoundment; and (3) for faster impoundment refill based on consultation with the U.S. Fish and Wildlife Service and other agencies, a minimum flow of no less than 300 cfs to protect the dwarf wedge mussel until normal operations are restored. The project can operate in most of the extreme conditions of the Connecticut River and generate electricity from flows of 130 cfs up to high flood conditions of 35,000 cfs. The estimated average annual generation of the project from 2008 to 2018 is 25,000 megawatt-hours.

m. A copy of the application is available for review via the internet through the Commission's Home Page (https://www.ferc.gov), using the “eLibrary” link. Enter the docket number, excluding the last three digits in the docket number field, to access the document. At this time, the Commission has suspended access to the Commission's Public Reference Room. For assistance, contact FERC at FERCOnlineSupport@ferc.gov or call toll free, (886) 208-3676 or TTY (202) 502-8659.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. A license applicant must file no later than 60 days following the date of issuance of this notice: (1) a copy of the water quality certification; (2) a copy of the request for certification, including proof of the date on which the certifying agency received the request; or (3) evidence of waiver of water quality certification.

o. Procedural schedule: The application will be processed according to the following schedule. Revisions to the schedule will be made as appropriate.

Deadline for Filing Comments, Recommendations, and Agency Terms and Conditions/Prescriptions | January 26, 2025.
Licensee's Reply to REA Comments | March 12, 2025.

Dated: November 27, 2024.
Debbie-Anne A. Reese,
Secretary.

[FR Doc. 2024-28406 Filed 12-3-24; 8:45 am]

BILLING CODE 6717-01-P